DEPARTMENT OF STATE

[Public Notice: 6805]

30-Day Notice of Proposed Information Collection: DS-5103, INTERNational Connections, 1405-XXXX

ACTION: Notice of request for public comment and submission to OMB of proposed collection of information.

SUMMARY: The Department of State has submitted the following information collection request to the Office of Management and Budget (OMB) for approval in accordance with the Paperwork Reduction Act of 1995.

• Title of Information Collection: INTERNational Connections.

• OMB Control Number: None.

• Type of Request: New Collection.

• Originating Office: Bureau of Human Resources, Office of Recruitment, Examination and Employment (HR/REE)

• Form Number: None.

• Respondents: Alumni of the U.S. Department of State's Student Programs, including internships, Pickerings, Rangels, Stay-in-Schools, Co-ops, etc.

• Estimated Number of Respondents: 1,000.

• Estimated Number of Responses: 1,000.

• Average Hours per Response: 30 minutes.

• Total Estimated Burden: 500.

• Frequency: On Occasion.

• Obligation to Respond: Voluntary.

DATES: Submit comments to the Office of Management and Budget (OMB) for up to 30 days from November 13, 2009.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Rachel C. Friedland who may be reached on 202-261-8055 or at Friedlandrc@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The Department's student internship programs provide a key source of potential candidates who have an interest in, and are qualified, to become future Department employees. Naturally, HR/REE wants to strengthen and maintain its connections to this group, fostering and mentoring a pool of candidates from which to obtain successful recruits.

In June 2008, HR/REE surveyed over 3,500 former interns who served from 2005 through spring 2008. The intern alumni were queried as to their motivation in seeking an internship, whether or not they had pursued a career with either the Foreign Service or Civil Service, and what their recommendations would be for the best ways for the Department to maintain contact after the conclusion of their internships. Intern alumni endorse continued contact with Department representatives mainly through electronic means and website reminders of career opportunities.

In an effort to address these findings and provide viable solutions to improving student engagement prior to, during and following an internship, the Department developed an intern engagement strategy that will ultimately result in a measurable conversion of interns into Department hires for the Foreign or Civil Service. The foundation of this strategy is INTERNational Connections, a web-based career networking site for current, former and future interns that collects pertinent information about them, their experiences and their career goals.

Methodology: Currently, the Department of State internship program employs over 1,000 participants in the summer, in addition to fall and spring internships. Unfortunately, a tracking system does not exist which would enable the Department to capture the intern-to-hire ratio or conversion rate, or track this statistic over a period of time. This project would provide that missing link.

Users will register online at careers.state.gov/internconnect and create a profile that includes the aforementioned information.

Dated: October 21, 2009.
Ruben Torres,
Executive Director, Bureau of Human Resources, Department of State.

[FR Doc. E9-27310 Filed 11-12-09; 8:45 am]

BILLING CODE 4710-15-P